DEPARTMENT OF HEALTH AND HUMAN SERVICES

Health Resources and Services Administration

Ryan White HIV/AIDS Program Part F; AIDS Education and Training Centers National Coordinating Resource Center

AGENCY: Health Resources and Services Administration (HRSA), Department of Health and Human Services.

ACTION: Notice of Supplemental Award.

SUMMARY: HRSA's HIV/AIDS Bureau will award $200,000 in supplemental funding to Rutgers, the State University of New Jersey, Biomedical and Health Sciences (Rutgers), to support the Ryan White HIV/AIDS Program Part F AIDS Education and Training Centers' (AETC) National Coordinating Resource Center (NCRC) project in Fiscal Year (FY) 2020. Pending the availability of funds and satisfactory performance, HRSA will award up to $200,000 in each succeeding fiscal year of their period of performance. The NCRC is responsible for facilitating and coordinating AETC training and technical assistance activities, disseminating, and promoting the work of AETC programs. This supplemental funding will enable the recipient to scale up their program efforts to ensure that HIV care and treatment professionals have the tools and information needed to achieve the goals of the Ending the HIV Epidemic: A Plan for America (EHE).

SUPPLEMENTARY INFORMATION:

Intended Recipient of the Award: Rutgers, the State University of New Jersey, Biomedical and Health Sciences, the AETC NCRC.

Amount of Award: $200,000 available in FY 2020.

Project Period: March 1, 2020-June 30, 2024.

CFDA Number: 93.145.

Authority: 42 U.S.C. 300ff-111(a) (section 2692(a) of the Public Health Service (PHS) Act), 42 U.S.C. 300ff-121 (section 2693 of the PHS Act), and Further Consolidated Appropriations Act, 2020 (Pub. L. 116-94).

Justification: Rutgers, the State University of New Jersey, Biomedical and Health Sciences (Rutgers) currently operates the NCRC and provides coordination and management services for AETC HIV healthcare training and technical assistance activities and the dissemination of AETC program information. This supplemental funding will enable the recipient to build on their existing framework within AETC network, to respond to the training and technical assistance needs in the targeted EHE jurisdictions. The recipient will use supplemental funds to scale up their concentration on EHE jurisdictions by conducting targeted outreach to ensure their awareness of, and ability to access the breadth of services, technical assistance and curated materials available from the AETC NCRC. The AETC NCRC's current geographic coverage offers a strategic opportunity to leverage this existing infrastructure to provide access to critical, time sensitive training and technical assistance and evidence-informed interventions to providers in EHE targeted jurisdictions. Expanding the availability of state-of-the-art HIV care and treatment training resources will help prepare for the projected increase in demand for well-trained HIV care professionals as a result of the EHE rollout. This award recipient has the demonstrated expertise and scalable experience required to address these time-sensitive training and technical assistance needs.

FOR FURTHER INFORMATION CONTACT: Sherrillyn Crooks, Chief, HIV Education Branch, Office of Training and Capacity Development, HRSA, 5600 Fishers Lane, Room 9N110, Rockville, MD 20857, by email at scrooks@hrsa.gov or by phone at (301) 443-7662.

Thomas J. Engels,
Administrator.

[FR Doc. 2020-07093 Filed 4-3-20; 8:45 am]

BILLING CODE 4165-15-P